DEPARTMENT OF ENERGY

Federal Energy Regulatory Commission

[Docket No. ER01-1028-001]

Commonwealth Edison Company; Notice of Filing

February 15, 2001.

Take notice that on February 9, 2001, Commonwealth Edison Company (ComEd) filed to amend its January 22, 2001 filing in the above referenced proceeding to withdraw the long-term firm point-to-point transmission service agreement with Dynegy Power Marketing, Inc. (DYPM) which ComEd had designated as Original Service Agreement No. 494 (DYPM Agreement). ComEd is withdrawing the DYPM Agreement because, at the time it was filed, the DYPM Agreement had already been superseded by a subsequent set of transactions requested and confirmed by DYPM.

A copy of this filing is being mailed to each person or company named on the Commission's service list in the above-captioned proceeding. ComEd has also mailed a copy of this filing to DYPM.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before March 2, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-4347 Filed 2-21-01; 8:45 am]

BILLING CODE 6717-01-M